DEPARTMENT OF HEALTH AND HUMAN SERVICES

National Institutes of Health

National Institutes on Aging; Amended Notice of Meeting

Notice is hereby given of a change in the meeting of the National Institute on Aging Special Emphasis Panel, June 13, 2001, 2 p.m. to June 13, 2001, 4:30 pm, 7201 Wisconsin Avenue, Bethesda, MD 20892 which was published in the Federal Register on April 23, 2001, 66 FR 20474.

The meeting will be held on May 29, 2001. The meeting is closed to the public.

Dated: May 18, 2001.
LaVerne Y. Stringfield,
Director, Office of Federal Advisory Committee Policy.

[FR Doc. 01-13201 Filed 5-24-01; 8:45 am]

BILLING CODE 4140-01-M